DEPARTMENT OF TRANSPORTATION

Federal Aviation Administration

14 CFR Part 39

[Docket No. FAA-2012-1320; Directorate Identifier 2012-NM-095-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 767 airplanes. This proposed AD was prompted by reports of cracks and heat damage on pivot joint components found during main landing gear (MLG) overhaul. For certain airplanes, this proposed AD would require repetitive inspections of the MLG pivots, truck beam bushings, and inner cylinder bushings. For all airplanes, this proposed AD would require a maintenance program revision, one-time inspections of the MLG truck beam, and related investigative and corrective actions (including configuration changes) if necessary; accomplishment of these actions would terminate the repetitive inspections. We are proposing this AD to detect and correct heat damage and cracks in the pivot pin, truck beam lugs, and inner cylinder lugs, which could result in fracture of the pivot joint components and consequent MLG collapse.

DATES: We must receive comments on this proposed AD by March 18, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received and other information. The street address for the Docket Office (phone: 800-647-5527) is in the ADDRESSES section. Comments will be available in the AD docket shortly after receipt.

FOR FURTHER INFORMATION CONTACT: Berhane Alazar, Aerospace Engineer, Airframe Branch, ANM-120S, FAA, Seattle Aircraft Certification Office (ACO), 1601 Lind Avenue SW., Renton, Washington 98057-3356; phone: 425-917-6577; fax: 425-917-6590; email: berhane.alazar@faa.gov.

SUPPLEMENTARY INFORMATION:

Comments Invited

We invite you to send any written relevant data, views, or arguments about this proposal. Send your comments to an address listed under the ADDRESSES section. Include “Docket No. FAA-2012-1320; Directorate Identifier 2012-NM-095-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

During overhaul of the MLG, pivot joint components have been found with cracks or heat damage. There have been 11 such findings on Model 767-400ER series airplanes, and 42 findings on Model 767-200, -300, and -300F series airplanes. The damage was found on Model 767-400ER series airplanes as early as 8 years from delivery, and on Model 767-200, -300, and -300F series airplanes as early as 7 years from delivery. Heat damage and cracks were found at the pivot joint location, caused by the truck pitching motion during normal airplane operations. High levels of heat in the pivot joint can result in damage and cracks in the pivot pin, truck beam lugs, and inner cylinder lugs. These conditions, if not corrected, could result in fracture of the pivot joint components and consequent MLG collapse.

Relevant Service Information

We reviewed Boeing Service Bulletin 767-32A0227, Revision 1, dated September 13, 2012. For information on the procedures and compliance times, see this service information at http://www.regulations.gov by searching for Docket No. FAA-2012-1320.

FAA's Determination

We are proposing this AD because we evaluated all the relevant information and determined the unsafe condition described previously is likely to exist or develop in other products of the same type design.

Proposed AD Requirements

This proposed AD would require accomplishing the actions specified in the service information described previously.

The phrase “related investigative actions” might be used in this proposed AD. “Related investigative actions” are follow-on actions that (1) are related to the primary actions, and (2) further investigate the nature of any condition found. Related investigative actions in an AD could include, for example, inspections.

In addition, the phrase “corrective actions” might be used in this proposed AD. “Corrective actions” are actions that correct or address any condition found. Corrective actions in an AD could include, for example, repairs.

Costs of Compliance

We estimate that this proposed AD affects 420 airplanes of U.S. registry. We estimate the following costs to comply with this proposed AD:

Estimated Costs
Action | Labor cost | Parts cost | Cost per product | Number of affected U.S. airplanes | Cost on U.S. operators
Maintenance program revision | 1 work-hour × $85 per hour = $85 | $0 | $85 | 420 | $35,700
Repetitive inspections | 59 work-hours × $85 per hour = $5,015 per inspection cycle | 0 | 5,015 | 38 | 190,570
One-time inspections | 147 work-hours × $85 per hour = $12,495 | 0 | 12,495 | 420 | 5,247,900

We have received no definitive data that would enable us to provide cost estimates for the on-condition actions (including related investigative actions, configuration changes, and corrective actions) specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2012-1320; Directorate Identifier 2012-NM-095-AD.

(a) Comments Due Date

We must receive comments by March 18, 2013.

(b) Affected ADs

None.

(c) Applicability

This AD applies to The Boeing Company Model 767-200, -300, -300F, and -400ER series airplanes, certificated in any category, as identified in Boeing Service Bulletin 767-32A0227, Revision 1, dated September 13, 2012.

(d) Subject

Joint Aircraft System Component (JASC)/Air Transport Association (ATA) of America Code 32, Landing Gear.

(e) Unsafe Condition

This AD was prompted by reports of cracks and heat damage found on pivot joint components found during main landing gear (MLG) overhaul. We are issuing this AD to detect and correct heat damage and cracks in the pivot pin, truck beam lugs, and inner cylinder lugs, which could result in fracture of the pivot joint components and consequent MLG collapse.

(f) Compliance

Comply with this AD within the compliance times specified, unless already done.

(g) Maintenance Program Revision

At the applicable times specified in paragraph 1.E., “Compliance,” of Boeing Service Bulletin 767-32A0227, Revision 1, dated September 13, 2012, except as provided by paragraph (j) of this AD, revise the maintenance program to incorporate the specified maintenance review board (MRB) item, in accordance with Part 1 of the Accomplishment Instructions of Boeing Service Bulletin 767-32A0227, Revision 1, dated September 13, 2012.

(h) Repetitive Pivot Pin and Bushing Inspections

For airplanes identified as Group 1 in Boeing Service Bulletin 767-32A0227, Revision 1, dated September 13, 2012: At the applicable times specified in paragraph 1.E., “Compliance,” of Boeing Service Bulletin 767-32A0227, Revision 1, dated September 13, 2012, except as provided by paragraph (j) of this AD, do detailed and etch inspections to detect discrepancies (including bronze transfer, heat discoloration, darkened streaks, thermal spray coating distress, wear, cracking, smearing of material into the lubrication grooves, or grease not present in the bushing inner diameter) of the MLG pivots, truck beam bushings, and inner cylinder bushings, and do all applicable corrective actions, in accordance with the Accomplishment Instructions of Boeing Service Bulletin 767-32A0227, Revision 1, dated September 13, 2012. Do all applicable corrective actions before further flight. Repeat the inspections thereafter at the applicable times specified in paragraph 1.E., “Compliance,” of Boeing Service Bulletin 767-32A0227, Revision 1, dated September 13, 2012.

(i) MLG Truck Beam Inspections

For all airplanes: At the applicable time specified in paragraph 1.E., “Compliance,” of Boeing Service Bulletin 767-32A0227, Revision 1, dated September 13, 2012, except as provided by paragraph (j) of this AD, inspect the MLG truck beam, using a detailed inspection, etch inspection, and fluorescent penetrant inspection (FPI), as applicable, to detect discrepancies (including distress, corrosion, and cracking), and do all applicable related investigative and corrective actions (including configuration changes), in accordance with the Accomplishment Instructions of Boeing Service Bulletin 767-32A0227, Revision 1, dated September 13, 2012. Do all applicable related investigative and corrective actions before further flight. Boeing Service Bulletin 767-32A0227, Revision 1, dated September 13, 2012, provides options for accomplishing certain corrective actions.

(j) Service Information Exception

Where Boeing Service Bulletin 767-32A0227, Revision 1, dated September 13, 2012, specifies a compliance time “after the original issue date of this service bulletin,” this AD requires compliance within the specified compliance time after the effective date of this AD.

(k) Terminating Action

(1) Accomplishment of the actions required by paragraphs (g) and (i) of this AD terminates the requirements of paragraph (h) of this AD.

(2) Overhaul of the MLG and installation of truck beam and inner cylinder bushings having applicable part numbers identified in Appendix “B” of Boeing Service Bulletin 767-32A0227, Revision 1, dated September 13, 2012, terminate the requirements of paragraphs (h) and (i) of this AD, if the actions are done using a method approved in accordance with the procedures specified in paragraph (n) of this AD.

(l) No Alternative Actions or Intervals

After accomplishing the revision required by paragraph (g) of this AD, no alternative actions (e.g., inspections) or intervals may be used unless the actions or intervals are approved as an alternative method of compliance (AMOC) in accordance with the procedures specified in paragraph (n) of this AD.

(m) Credit for Previous Actions

This paragraph provides credit for the actions specified in paragraphs (g), (h), (i), and (k) of this AD, if those actions were performed before the effective date of this AD using Boeing Alert Service Bulletin 767-32A0227, dated April 25, 2012, which is not incorporated by reference in this AD.

(n) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(o) Related Information

(1) For more information about this AD, contact Berhane Alazar, Aerospace Engineer, Airframe Branch, ANM-120S, FAA, Seattle Aircraft Certification Office (ACO), 1601 Lind Avenue SW., Renton, Washington 98057-3356; phone: 425-917-6577; fax: 425-917-6590; email: berhane.alazar@faa.gov.

(2) For service information identified in this AD, contact Boeing Commercial Airplanes, Attention: Data & Services Management, P.O. Box 3707, MC 2H-65, Seattle, Washington 98124-2207; telephone 206-544-5000, extension 1; fax 206-766-5680; Internet https://www.myboeingfleet.com. You may review copies of the referenced service information at the FAA, Transport Airplane Directorate, 1601 Lind Avenue SW., Renton, Washington. For information on the availability of this material at the FAA, call 425-227-1221.

Issued in Renton, Washington, on January 23, 2013.
Ali Bahrami,
Manager, Transport Airplane Directorate, Aircraft Certification Service.

[FR Doc. 2013-01972 Filed 1-29-13; 8:45 am]

BILLING CODE 4910-13-P